DEPARTMENT OF HEALTH AND HUMAN SERVICES

Centers for Disease Control and Prevention

National Center for Injury Prevention and Control Initial Review Group, (NCIPC IRG)

In accordance with section 10(a)(2) of the Federal Advisory Committee Act (Pub. L. 92-463), the Centers for Disease Control and Prevention (CDC) announces the following meeting of the aforementioned review group:

Times and Dates: 1 p.m.-3 p.m., July 8, 2009 (closed).

Place: Teleconference.

Status: Portions of the meetings will be closed to the public in accordance with provisions set forth in section 552b(c)(4) and (6), Title 5, U.S.C., and the Determination of the Director, Management Analysis and Services Office, CDC, pursuant to section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies, to conduct research on environmental exposures to hazardous substances.

Matters To Be Discussed: The meeting will include the review, discussion, and evaluation of cooperative agreement applications submitted in response to Fiscal Year 2009 Requests for Applications related to the following individual research announcement: TS-09-003. This funding opportunity announcement (FOA) solicits grant applications (U01) for the purpose of educating students, public health professionals, and community outreach groups in the area of environmental health. The FOA also includes a research component that will speak to the issue of Priority Data Needs (PDN) for the Division of Toxicology and Environmental Medicine (DTEM). Applicants (for either the research component or the education component) for this FOA will establish a partnership with an appropriate community organization or research entity, jointly identifying the specific priority pollutant for any one of the ATSDR Priority Data Needs.

Agenda items are subject to change as priorities dictate.

Contact Person for More Information: J. Felix Rogers, Ph.D., M.P.H., NCIPC, CDC, 4770 Buford Highway, NE., M/S F62, Atlanta, Georgia 30341-3724, Telephone (770) 488-4334.

The Director, Management Analysis and Services Office has been delegated the authority to sign Federal Register notices pertaining to announcements of meetings and other committee management activities for both CDC and the Agency for Toxic Substances and Disease Registry.

Dated: June 2, 2009.
Lorenzo Falgiano,
Acting Director, Management Analysis and Services Office, Centers for Disease Control and Prevention.

[FR Doc. E9-13407 Filed 6-8-09; 8:45 am]

BILLING CODE 4163-18-P